DEPARTMENT OF JUSTICE

Civil Rights Division; Notice of Fairness Hearing

AGENCY: Disability Rights Section, Civil Rights Division, DOJ.

ACTION: Notice of fairness hearing.

SUMMARY: The Civil Rights Division is announcing that the Court will hold a fairness hearing in United States v. City and County of Denver & the Denver Police Department (Civil Action No. 96-K-370 (D. Colo.)). At the hearing, the United States and the City of Denver will ask the Court to approve the Consent Decree filed by the parties to resolve this case. The Court will also consider any objections to the Consent Decree by persons who may be affected.

DATES: Objections to the Consent Decree are due by June 8, 2000. The fairness hearing will be held on July 7, 2000 at 9:30 a.m. See SUPPLEMENTARY INFORMATION for more information on the procedure for filing objections.

ADDRESSES: Address all objections to the Consent Decree to James R. Manspeaker, Clerk, United States Courthouse, 1929 Stout Street, Room C-145, Denver, CO 80294. The fairness hearing will be held at the United States District Court for the District of Colorado, United States Courthouse, Courtroom C-401, 1929 Stout Street, Denver, CO 80294.

FOR FURTHER INFORMATION CONTACT:

Eugenia Esch, Civil Rights Division, P.O. Box 66738, Washington, DC 20035-6738; 202-514-3816; or

Steven W. Moore, City Attorney's Office, 1437 Bannock Street, Room 353, Denver, CO 80202; 720-913-3100.

SUPPLEMENTARY INFORMATION: Under 42 U.S.C. 12111-12134, and 42 U.S.C. 2000e-2(n), the Civil Rights Division announces that a fairness hearing will be conducted by the Court in the case of United States v. City and County of Denver & the Denver Police Department (Civil Action No. 96-K-370 (D. Colo.)) at the time and place listed above. On May 9, 2000, the United States and the City and County of Denver submitted a proposed Consent Decree (“Decree”) which resolved all issues raised by the Complaint charging employment discrimination on the basis of disability in violation of the Americans with Disabilities Act.

Under the Decree, the City of Denver has agreed to specific injunctive and remedial relief and to create a new reassignment policy for the Denver Police Department. The Decree also provides for back pay relief for eleven (11) individuals. A copy of the Decree can be obtained by writing or calling Eugenia Esch or Steven W. Moore at the addresses or phone numbers listed above.

At the hearing, the United States and the City of Denver will ask the Court to approve the Decree. The Court will also consider any objections to the Decree by persons who may be affected. If you believe that your rights have been or will be affected by the Decree, you have the right to object.

Any objection must be in writing and sent to the Clerk of the Court at the address above. Your objection must be filed with the Clerk of the Court by the date listed above. Only written objections will be considered by the Court at the fairness hearing. Written objections should state the name and number of this case (United States v. City and County of Denver & the Denver Police Department (Civil Action No. 96-K-370 (D. Colo.)); the objector's name, current address, home and work telephone numbers; the reason(s) for and a description of the objection(s); a description of any documents supporting the objector's position; the name and address of the objector's attorney, if any; and a statement as to whether the objector wishes to be heard at the fairness hearing.

Dated: May 19, 2000.
John Wodatch,
Chief, Disability Rights Section.

[FR Doc. 00-13054 Filed 5-23-00; 8:45 am]

BILLING CODE 4410-13-M